DEPARTMENT OF TRANSPORTATION

Federal Aviation Administration

14 CFR Part 71

[Docket No. FAA-2013-0986; Airspace Docket No. 13-AGL-25]

Establishment of Class E Airspace; Bois Blanc Island, MI

AGENCY: Federal Aviation Administration (FAA), DOT.

ACTION: Final rule, correction.

SUMMARY: This action corrects an error in the legal description of a final rule published in the Federal Register of May 22, 2014, that establishes Class E airspace at Bois Blanc Island Airport, Bois Blanc Island, MI. The legal description noted incorrectly the airport's state and geographic coordinates.

DATES: Effective date: 0901 UTC, July 24, 2014.

FOR FURTHER INFORMATION CONTACT: Raul Garza, Jr., Central Service Center, Operations Support Group, Federal Aviation Administration, Southwest Region, 2601 Meacham Blvd., Fort Worth, TX 76137; telephone: 817-321-7654.

SUPPLEMENTARY INFORMATION:

History

On May 22, 2014, a final rule was published in the Federal Register establishing Class E airspace at Bois Blanc Island Airport, Bois Blanc Island, MI (79 FR 29323), Docket No. FAA-2013-0986. Subsequent to publication, the FAA found the document showing the wrong state and geographic location in the legal description. It should read Bois Blanc Island Airport, MI, (lat. 45°45′59″ N., long. 084°30′14″ W.), instead of Bois Blanc Island Airport, MO, (lat. 38°20′52″ N., long. 93°20′43″ W.) This action makes the correction.

Final Rule Correction

Accordingly, pursuant to the authority delegated to me, in the Federal Register of May 22, 2014, (79 FR 29323) FR Doc. 2014-11382, the state and geographic coordinates in the airspace designation regulatory text on page 29324, column 2, line 1, are corrected as follows:

§ 71.1 [Amended]

AGL MI E5 Bois Blanc Island, MI [Corrected]

Remove Bois Blanc Island Airport, MO, (lat. 38°20′52″ N., long. 93°20′43″ W.) and add in its place Bois Blanc Island Airport, MI, (lat. 45°45′59″ N., long. 084°30′14″ W.)

Issued in Fort Worth, Texas, on June 6, 2014.
Christopher L. Southerland,
Manager, Operations Support Group, ATO Central Service Center.

[FR Doc. 2014-14049 Filed 6-13-14; 8:45 am]

BILLING CODE 4910-13-P